ENVIRONMENTAL PROTECTION AGENCY

[ER-FRL-6632-3]

Environmental Impact Statements; Notice of Availability

Responsible Agency: Office of Federal Activities, General Information (202) 564-7167 or http://www.epa.gov/compliance/nepa/.

Weekly receipt of Environmental Impact Statements

Filed August 12, 2002 Through August 15, 2002

Pursuant to 40 CFR 1506.9.

EIS No. 020348, Final EIS, AFS, UT, Ray's Valley Road Realignment, Proposal to Reduce or Eliminate Adverse Impacts to Watershed and Aquatic Species and Provide Safer Driving Conditions, Uinta National Forest, Spanish Fork Ranger District, Utah County, UT, Wait Period Ends: September 29, 2002, Contact: Renee Flanagan (801) 342-5100. This document is available on the Internet at: http://www.fs.fed.us/r4/uinta.

EIS No. 020349, Draft EIS, FHW, MN, IA, Trunk Highway 60 Reconstruction Project, Improvements from 1.8 miles south of the Minnesota-Iowa Border (120th Street) to Interstate 90 north of the City of Worthington, Funding, COE Section 404 and NPDES Permits, Nobles County, MN and Osceola County, IA, Comment Period Ends: October 14, 2002, Contact: Tamara Cameron (651) 291-6121.

EIS No. 020350, Draft EIS, COE, TX, Three Oaks Mine Project, Construction and Operation of Surface Lignite Mine, Permits Required are Railroad Commission of Texas under Title 16, Part 1 and Section 404, Lee and Bastrop Counties, TX, Comment Period Ends: October 22, 2002, Contact: Ms. Jennifer Walker (817) 886-1733. This document is available on the Internet at: http://www.swf.usace.army.mil.

EIS No. 020351, Draft EIS, NOA, AK, OR, WA, CA, Programmatic EIS—Pacific Salmon Fisheries Management Plan, Off the Coasts of Southeast Alaska, Washington, Oregon and California, and the Columbia River Basin, Implementation, Magnuson-Stevens Act, AK, WA, OR and CA, Comment Period Ends: October 22, 2002, Contact: D. Robert Lohn (206) 526-6150.

EIS No. 020352, Final EIS, BLM, CA, Northern and Eastern Mojave Planning Area (NEMO), Implementation, California Desert Conservation Area Plan Amendments, Mojave Desert, CA, Wait Period Ends: September 29, 2002, Contact: Edythe Seehafer (760) 252-6021.

EIS No. 020353, Draft Supplement, COE, FL, Coast of Florida Erosion and Storm Effects Study Region III, Construction, Operation and Maintenance, Shore Protection Project, Palm Beach, Broward and Dade Counties, FL, Comment Period Ends: October 14, 2002, Contact: Dale Beter (561) 686-3441.

Amended Notices

EIS No. 020275, Draft EIS, GSA, WI, Badger Army Ammunition Plant, Property Disposal, Implementation, Townships of Sumpter and Merrimac, Sauk County, WI, Comment Period Ends: September 30, 2002, Contact: Mark N. Lundgren (312) 353-0302. Revision of FR Notice Published on 7/5/2002: CEQ Comment Period Ending 08/19/2002 Has Been Extended to 09/30/2002.

Dated: August 20, 2002.
B. Katherine Biggs,
Associate Director, NEPA Compliance Division, Office of Federal Activities.

[FR Doc. 02-21562 Filed 8-22-02; 8:45 am]

BILLING CODE 6560-50-P